Title 3—

The President

Proclamation 8303 of October 8, 2008

Leif Erikson Day, 2008

By the President of the United States of America

A Proclamation

On Leif Erikson Day, we remember that son of Iceland and grandson of Norway for his journey to North America, and we celebrate the influential role Nordic Americans have played in our society.

Leif Erikson was among the world's greatest and most daring explorers. More than 1,000 years ago, he led a crew across the Atlantic to North America. Today, the same desire to explore and open new frontiers inspires our citizens and contributes to the strength of our Nation.

America's friendships with Denmark, Finland, Iceland, Norway, and Sweden are strong, and Nordic Americans have added to our rich cultural diversity and proud ancestry. On this day, we recognize these individuals for their remarkable achievements in all sectors of our society. America is grateful for the many contributions of Nordic Americans, and we continue to draw inspiration from the courage and optimism of the adventurous Leif Erikson.

To honor Leif Erikson and to celebrate our citizens of Nordic American heritage, the Congress, by joint resolution (Public Law 88-566) approved on September 2, 1964, has authorized the President to proclaim October 9 of each year as “Leif Erikson Day.”

NOW, THEREFORE, I, GEORGE W. BUSH, President of the United States of America, do hereby proclaim October 9, 2008, as Leif Erikson Day. I call upon all Americans to observe this day with appropriate ceremonies, activities, and programs to honor our rich Nordic-American heritage.

IN WITNESS WHEREOF, I have hereunto set my hand this eighth day of October, in the year of our Lord two thousand eight, and of the Independence of the United States of America the two hundred and thirty-third.

[FR Doc. E8-24461

Filed 10-10-08; 8:45 am]

Billing code 3195-W9-P